DEPARTMENT OF TRANSPORTATION

Federal Railroad Administration

[Docket Number FRA-2001-10660]

Petition for Waiver of Compliance

Under part 211 of Title 49 Code of Federal Regulations (CFR), this document provides the public notice that on May 29, 2018, BNSF Railway (BNSF) petitioned the Federal Railroad Administration (FRA) for a waiver of compliance from certain provisions of the Federal railroad safety regulations contained at 49 CFR part 218. FRA assigned the petition Docket Number FRA-2001-10660.

FRA granted BNSF a waiver of certain provisions of 49 CFR part 218 on May 6, 2002. Subsequently, FRA extended the waiver in 2007 and 2012. BNSF is currently petitioning for a renewal of this waiver for relief from the requirements in 49 CFR 218.22(c)(5). Specifically, BNSF seeks to permit train crew members, yard crew members, and utility employees to remove and replace batteries in two-way end-of-train (EOT) devices, while the EOT device is in place on the rear of the train to which the individual has been assigned, without establishing any blue signal protection.

In its petition, BNSF states such relief would provide several safety benefits. First, BNSF contends the safety of train service employees and utility employees will be enhanced by reducing the time such employees are performing a safety sensitive task by eighty percent. Second, train service employees and utility employees will lift and handle significantly lighter loads. The “Smartpack” batteries currently used by BNSF weigh 10.1 pounds or less as opposed to a PULSE EOT device unit weighing 32-34 pounds.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by August 13, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-13826 Filed 6-26-18; 8:45 am]

BILLING CODE 4910-06-P